DEPARTMENT OF COMMERCE

National Oceanic and Atmospheric Administration

[I.D. 121905B]

Atlantic Highly Migratory Species; Scientific Research Permit

AGENCY: National Marine Fisheries Service (NMFS), National Oceanic and Atmospheric Administration (NOAA), Commerce.

ACTION: Notice; request for a scientific research permit; request for comments.

SUMMARY: NMFS announces the receipt of a request for a scientific research permit (SRP) to track the survival and movement of highly migratory species (HMS) with satellite pop-up tags in the Atlantic Ocean, specifically the Charleston Bump and adjacent areas. NMFS invites comments from interested parties on this SRP request.

DATES: Written comments on the application for a scientific research permit must be received by 5 p.m. on January 26, 2006.

ADDRESSES: You may submit comments by any of the following methods:

• Email: SF1.121905B@noaa.gov. Include in the subject line the following identifier: I.D. 121905B.

• Mail: Margo Schulze-Haugen, Chief, Highly Migratory Species Management Division (F/SF1), NMFS, 1315 East-West Highway, Silver Spring, MD 20910. Please mark the outside of the envelope “Comments on SRP Application.”

• Fax: (301)427-2593.

FOR FURTHER INFORMATION CONTACT: Megan Caldwell, by phone: (301)713-2347; fax: (301)713-1917.

SUPPLEMENTARY INFORMATION: SRPs are requested and issued under the authority of the Magnuson-Stevens Fishery Conservation and Management Act (16 U.S.C. 1801 et seq.) and/or the Atlantic Tunas Convention Act (16 U.S.C. 971 et seq.). Regulations at 50 CFR 600.745 and 635.32 govern scientific research activity, exempted fishing, and exempted educational activity with respect to Atlantic HMS.

Since 2000, the South Carolina Department of Natural Resources (SC DNR) has requested the authorization of an SRP for the collection, tagging, and release of several HMS in the Charleston Bump area to monitor survival rates and movement patterns; the same request has been submitted for 2006. The proposed sampling would occur no further north than 30°00 N., 75°00 W. and no further south than 35°00 N. and 75°00 W., specifically focusing collection efforts in the Charleston Bump area. The research would be conducted from February through December 2006, during both the closed (February 1 to April 30) and open seasons. Operations would be conducted during the closed season to reduce gear conflicts. Additionally, for the past several years, this research typically coincided with the closure because the state-owned research vessel is rigged for longline sampling in the first several months of the year.

Species likely to be tagged while conducting research in this area are swordfish (Xiphias gladius), blue marlin (Makaira nigricans), white marlin (Tetrapturus albidus), sailfish (Istiophorus platypterus), yellowfin tuna (Thunnus albacares), shortfin mako sharks (Isurus oxyrhincus), night sharks (Carcharhinus signatus), silky shark (Carcharhinus falciformus), dusky sharks (Carcharhinus obscurus), bigeye thresher sharks (Alopias superciliosus), and thresher sharks (Alopias vulpinus).

For each fish tagged, researchers will record species, estimated length and weight, GPS location, sea surface temperature, and any other data archived by the tag. Over the past three years, the average number of incidental mortalities that occurred during this research project were 14 swordfish, five scalloped hammerhead (Sphyrna lewini), four night sharks, two silky sharks, two yellowfin tuna, one blackfin tuna (Thunnus atlanticus), and one sandbar shark (Carcharhinus plumbeus). For all incidental mortalities, data would be collected, such as length, weight, DNA samples, contaminant samples, aging samples, and gonad samples.

Research would be conducted onboard a bonafide research vessel owned by the State of South Carolina. Collection of HMS would occur with pelagic longline gear divided into two sections with 60 16/0 non-offset circle hooks, totaling six nautical miles in length and 120 hooks. All hooks would be baited with whole finfish and/or squid. Green chemical light sticks may be attached to the gangions. The soak time would be no longer than four hours.

While sea turtle interactions are not anticipated and have not occurred in the past, sea turtle handling and release equipment and instructions will be onboard the vessel at all times while engaged in this research activity. Additionally, one individual of the research team is trained and experienced in sea turtle handling and release techniques.

In past years, this research was categorically excluded from the requirement to prepare either an Environmental Assessment or Environmental Impact Statement pursuant to the National Environmental Policy Act. This action was categorically excluded because it was of limited size and magnitude and would not have significant effects individually or cumulatively on the environment. As noted above, limited numbers of incidental mortalities occurred while conducting this research over the past several years. All mortalities of sharks and swordfish were counted against the respective quota. Further, all fish tagged were to be released alive, with minimal or no post release mortality anticipated. If any animals died during the collection and/or tagging process, age structures (otoliths) and reproductive tissues were allowed to be sampled. If an SRP were to be issued, the number of incidental mortalities would be limited to ten animals per species. Any mortalities beyond this amount would need an additional authorization. This SRP, if issued, is issued, would involve the same research activity as in past years.

This research may benefit all interested parties by providing fishery managers with additional data necessary to consider the importance of the Charleston Bump ecosystem in the management and conservation of HMS in the Atlantic Ocean.

The regulations that would prohibit the proposed activities include requirements for permits and fees (50 CFR 635.4), size limits (50 CFR 635.20), gear operation and deployment (50 CFR 635.21), commercial quotas (50 CFR 635.27), and closures (50 CFR 635.28).

Authority: 16 U.S.C. 971 et seq. and 16 U.S.C. 1801 et seq.

Dated: December 29, 2005.
Alan D. Risenhoover,
Acting Director, Office of Sustainable Fisheries, National Marine Fisheries.

[FR Doc. 06-96 Filed 1-4-06; 8:45 am]

BILLING CODE 3510-22-S